NATIONAL FOUNDATION ON THE ARTS AND THE HUMANITIES

National Endowment for the Arts; Combined Arts Advisory Panel

Pursuant to section 10(a)(2) of the Federal Advisory Committee Act (Pub. L. 92-463), as amended, notice is hereby given that two meetings of the Combined Arts Advisory Panel to the National Council on the Arts will be held at the Nancy Hanks Center, 1100 Pennsylvania Avenue, NW., Washington, DC 20506 as follows:

Folk & Traditional Arts: June 14-15, 2004, Room 716 (Access to Artistic Excellence category). This meeting, from 9 a.m. to 6:30 p.m. on June 14th and from 9 a.m. to 5 p.m. on June 15th, will be closed.

Visual Arts: June 23-25, 2004, Room 716 (Access to Artistic Excellence category). This meeting, from 9 a.m. to 5:30 p.m. on June 23rd and June 24th and from 9 a.m. to 4:15 p.m. on June 25th, will be closed.

The closed portions of meetings are for the purpose of Panel review, discussion, evaluation, and recommendation on applications for financial assistance under the National Foundation on the Arts and the Humanities Act of 1965, as amended, including information given in confidence to the agency by grant applicants. In accordance with the determination of the Chairman of April 14, 2004, these sessions will be closed to the public pursuant to subsection (c) (6) of 5 U.S.C. 552b.

Further information with reference to this meeting can be obtained from Ms. Kathy Plowitz-Worden, Office of Guidelines & Panel Operations, National Endowment for the Arts, Washington, DC 20506, or call 202/682-5691.

Dated: May 14, 2004.
Kathy Plowitz-Worden,
Panel Coordinator, Panel Operations, National Endowment for the Arts.

[FR Doc. 04-11373 Filed 5-19-04; 8:45 am]

BILLING CODE 7537-01-P